DEPARTMENT OF AGRICULTURE

Food and Nutrition Service

7 CFR Parts 272 and 273

RIN 0584-AD30

Food Stamp Program: Eligibility and Certification Provisions of the Farm Security and Rural Investment Act of 2002; Approval of Information Collection Request

AGENCY: Food and Nutrition Service (FNS), USDA.

ACTION: Final rule, notice of approval of Information Collection Request (ICR).

SUMMARY: The final rule entitled, Food Stamp Program: Eligibility and Certification Provisions of the Farm Security and Rural Investment Act of 2002, was published on January 29, 2010. This final rule implemented 11 provisions of the Farm Security and Rural Investment Act of 2002 (FSRIA), which established new eligibility and certification requirements for the receipt of food stamps. Those provisions simplified program administration, allowed States greater flexibility, and provided enhanced access to eligible populations. The Food, Conservation, and Energy Act of 2008 changed the program name from Food Stamp Program to Supplemental Nutrition Assistance Program (SNAP). The Office of Management and Budget (OMB) cleared the associated information collection requirements on March 26, 2010. This document announces approval of the ICR.

DATES: The ICR associated with the final rule was approved by OMB on March 26, 2010, under OMB Control Number 0584-0064.

FOR FURTHER INFORMATION CONTACT: Angela Kline, Chief, Certification Policy Branch, Program Development Division, FNS, U.S. Department of Agriculture, 3101 Park Center Drive, Room 812, Alexandria, VA 22302. E-mail: Angela.Kline@FNS.USDA.GOV.

SUPPLEMENTARY INFORMATION: This document announces approval by OMB of the information collection requirements contained in the final rule entitled, Food Stamp Program: Eligibility and Certification Provisions of the Farm Security and Rural Investment Act of 2002, which was published on January 29, 2010 (75 FR 4912).

Dated: April 27, 2010.
Julia Paradis,
Administrator, Food and Nutrition Service.

[FR Doc. 2010-10391 Filed 5-3-10; 8:45 am]

BILLING CODE 3410-30-P